FEDERAL COMMUNICATIONS COMMISSION

47 CFR Parts 1, 23, 25, 73, 74, 78, 95, and 97

[DA 05-1075)

Editorial Modifications of the Commission's Rules

AGENCY: Federal Communications Commission.

ACTION: Final rule.

SUMMARY: This document amends twelve sections of the Commission's Rules by updating the postal address of the Arecibo Radio Astronomy Observatory near Arecibo, Puerto Rico.

DATES: Effective April 14, 2005.

FOR FURTHER INFORMATION CONTACT: Rodney Small, Office of Engineering and Technology, (202) 418-2452.

SUPPLEMENTARY INFORMATION: This is a summary of the Commission's Order, ET Docket No. 96-2, RM-8165, adopted April 13, 2005 and released April 14, 2005. The full text of this document is available on the Commission's Internet site at http://www.fcc.gov. It is also available for inspection and copying during regular business hours in the FCC Reference Center (Room CY-A257), 445 12th Street, SW., Washington, DC 20554. The full text of this document also may be purchased from the Commission's duplication contractor, Best Copy and Printing Inc., Portals II, 445 12th St., SW., Room CY-B402, Washington, DC 20554; telephone (202) 488-5300; fax (202) 488-5563; e-mail FCC@BCPIWEB.COM.

Summary of the Order

1. In the Order, the Office of the Managing Director (“OMD”) amends twelve sections of the Commission's Rules by updating the postal address of the Arecibo Radio Astronomy Observatory (“Observatory”) near Arecibo, Puerto Rico.

2. In October 1997, the Commission established a Coordination Zone covering the islands of Puerto Rico, Desecheo, Mona, Vieques, and Culebra within the Commonwealth of Puerto Rico. The Coordination Zone requires applicants for new and modified radio facilities in various communications services within the Coordination Zone to provide notification of their proposed operations to the Observatory at the time their applications are submitted to the Commission.

3. On March 4, 2005, Counsel for Cornell University (“Cornell”), operator of the Observatory, informed the Commission's Office of Engineering and Technology (OET) that the postal address for the Observatory had changed, and the Post Office is no longer forwarding mail sent to the old address listed in the Commission's Rules. Accordingly, Counsel for Cornell requests that the postal address for the Observatory be amended in all applicable Commission Rules to “Interference Office, Arecibo Observatory, HC3 Box 53995, Arecibo, Puerto Rico 00612.”

4. Authority for adoption of the foregoing revisions is contained in 47 CFR 0.231(b).

5. Amending the postal address for the Observatory in all applicable Commission rules is ministerial and does not change the substance of the rule or any party's obligations or rights, and thus can be undertaken under OMD delegated authority without a notice and comment period rulemaking. OMD has examined the entirety of the Commission's rules and finds twelve sections that require amendment to reflect the Observatory's new postal address.

Ordering Clauses

6. Pursuant to section 4(i) and 4(j) of the Communications Act of 1934, as amended, 47 U.S.C. 154(i) and 154(j), and sections 0.11 and 0.231 of the Commission's rules, 47 CFR 0.11 and 0.231, the Order and the rules specified in the Appendix, are amended, effective April 14, 2005.

List of Subjects

47 CFR Part 1

Postal Service, reporting and recordkeeping requirements.

47 CFR Parts 23, 25, 73, 74, 78, 95, and 97

Reporting and recordkeeping requirements.

Federal Communications Commission.
Andrew S. Fishel,
Managing Director.

Rule Changes

For the reasons discussed in the preamble, the Federal Communications Commission amends 47 CFR parts 1, 23, 25, 73, 74, 78, 95 and 97 to read as follows:

PART 1—PRACTICE AND PROCEDURE

1. The authority citation for part 1 continues to read as follows:

Authority: 47 U.S.C. 151, 154(i), 154(j), 155, 225, 303(r), 309 and 325(e).

2. Section 1.924 is amended by revising paragraph (d) introductory text to read as follows:

§ 1.924 Quiet zones.

* * * * *

(d) Notification to the Arecibo Observatory. The requirements in this section are intended to minimize possible interference at the Arecibo Observatory in Puerto Rico. Licensees must make reasonable efforts to protect the Observatory from interference. Licensees planning to construct and operate a new station at a permanent fixed location on the islands of Puerto Rico, Desecheo, Mona, Vieques or Culebra in services in which individual station licenses are issued by the FCC; planning to construct and operate a new station at a permanent fixed location on these islands that may cause interference to the operations of the Arecibo Observatory in services in which individual station licenses are not issued by the FCC; or planning a modification of any existing station at a permanent fixed location on these islands that would increase the likelihood of causing interference to the operations of the Arecibo Observatory must notify the Interference Office, Arecibo Observatory, HC3 Box 53995, Arecibo, Puerto Rico 00612, in writing or electronically (e-mail address: prcz@naic.edu), of the technical parameters of the planned operation. Carriers may wish to use the interference guidelines provided by Cornell University as guidance in designing facilities to avoid interference to the Observatory. The notification must include identification of the geographical coordinates of the antenna location (NAD-83 datum), the antenna height, antenna directivity (if any), proposed channel and FCC Rule Part, type of emission, and effective isotropic radiated power.

* * * * *

PART 23—INTERNATIONAL FIXED PUBLIC RADIOCOMMUNICATION SERVICES

3. The authority citation for part 23 continues to read as follows:

Authority: Secs. 4, 303, 48 Stat. 1066, 1082 as amended; 47 U.S.C. 154, 303. Interpret or apply sec. 301, 48 Stat. 1081; 47 U.S.C. 301.

4. Section 23.20 is amended by revising paragraph (f) introductory text to read as follows:

§ 23.20 Assignment of frequencies.

* * * * *

(f) Any applicant for a new permanent base or fixed station to be located on the islands of Puerto Rico, Desecheo, Mona, Vieques, and Culebra, or for a modification of an existing authorization which would change the frequency, power, antenna height, directivity, or location of a station on these islands and would increase the likelihood of the authorized facility causing interference, shall notify the Interference Office, Arecibo Observatory, HC3 Box 53995, Arecibo, Puerto Rico 00612, in writing or electronically, of the technical parameters of the proposal. Applicants may wish to consult interference guidelines, which will be provided by Cornell University. Applicants who choose to transmit information electronically should e-mail to: prcz@naic.edu.

* * * * *

PART 25—SATELLITE COMMUNICATIONS

5. The authority citation for part 25 continues to read as follows:

Authority: 47 U.S.C. 701-744. Interprets or applies Sections 4, 301, 302, 303, 307, 309 and 332 of the Communications Act, as amended. 47 U.S.C. Sections 154(i), 301, 302, 303, 307, 309 and 332, unless otherwise noted.

6. Section 25.203 is amended by revising paragraph (i) introductory text to read as follows:

§ 25.203 Choice of sites and frequencies.

* * * * *

(i) Any applicant for a new permanent transmitting fixed earth station authorization to be located on the islands of Puerto Rico, Desecheo, Mona, Vieques, and Culebra, or for a modification of an existing authorization which would change the frequency, power, antenna height, directivity, or location of such station on these islands and would increase the likelihood of the authorized facility causing interference, shall notify the Interference Office, Arecibo Observatory, HC3 Box 53995, Arecibo, Puerto Rico 00612, in writing or electronically, of the technical parameters of the proposal. Applicants may wish to consult interference guidelines, which will be provided by Cornell University. Applicants who choose to transmit information electronically should e-mail to: prcz@naic.edu.

* * * * *

PART 73—RADIO BROADCAST SERVICES

7. The authority citation for part 73 continues to read as follows:

Authority: 47 U.S.C. 154, 303, 334 and 336.

8. Section 73.1030 is amended by revising paragraph (a)(2) introductory text to read as follows:

§ 73.1030 Notifications concerning interference to radio astronomy, research and receiving installations.

(a) * * *

(2) Any applicant for a new permanent base or fixed station authorization to be located on the islands of Puerto Rico, Desecheo, Mona, Vieques, and Culebra, or for a modification of an existing authorization which would change the frequency, power, antenna height, directivity, or location of a station on these islands and would increase the likelihood of the authorized facility causing interference, shall notify the Interference Office, Arecibo Observatory, HC3 Box 53995, Arecibo, Puerto Rico 00612, in writing or electronically, of the technical parameters of the proposal. Applicants may wish to consult interference guidelines, which will be provided by Cornell University. Applicants who choose to transmit information electronically should e-mail to: prcz@naic.edu.

* * * * *

PART 74—EXPERIMENTAL RADIO, AUXILIARY, SPECIAL BROADCAST AND OTHER DISTRIBUTIONAL SERVICES

9. The authority citation for part 74 continues to read as follows:

Authority: 47 U.S.C. 154, 303, 307, 336(f), 336(h) and 554.

10. Section 74.24 is amended by revising paragraph (j)(1) to read as follows:

§ 74.24 Short-term operation.

* * * * *

(j)(1) This paragraph applies only to operations which will transmit on frequencies under 15 GHz. Prior to commencing short-term operation of a remote pickup broadcast station, a remote pickup automatic relay station, an aural broadcast STL station, an aural broadcast intercity relay station, a TV STL station, a TV intercity relay station, a TV translator relay station, a TV pickup station, or a TV microwave booster station within the 4-mile (6.4 kilometer) radius Commonwealth of Puerto Rico Protection Zone (centered on NAD-83 Geographical Coordinates North Latitude 18° 20' 38.28”, West Longitude 66° 45' 09.42”), an applicant must notify the Arecibo Observatory, located near Arecibo, Puerto Rico. Operations within the Puerto Rico Coordination Zone (i.e., on the islands of Puerto Rico, Desecheo, Mona, Vieques, or Culebra), but outside the Protection Zone, whether short term or long term, shall provide notification to the Arecibo Observatory prior to commencing operation. Notification should be directed to the following: Interference Office, Arecibo Observatory, HC3 Box 53995, Arecibo, Puerto Rico 00612, Tel. (809) 878-2612, Fax (809) 878-1861, E-mail prcz@naic.edu.

* * * * *

PART 78—CABLE TELEVISION RELAY SERVICE

11. The authority citation for part 78 continues to read as follows:

Authority: Secs. 2, 3, 4, 301, 303, 307, 308, 309, 48 Stat., as amended, 1064, 1065, 1066, 1081, 1082, 1083, 1084, 1085; 47 U.S.C. 152, 153, 154, 301, 303, 307, 308, 309.

12. Section 78.19 is amended by revising paragraph (c)(2) introductory text to read as follows:

§ 78.19 Interference.

* * * * *

(c) * * *

(2) Any applicant for a new permanent base or fixed station authorization to be located on the islands of Puerto Rico, Desecheo, Mona, Vieques, and Culebra, or for a modification of an existing authorization which would change the frequency, power, antenna height, directivity, or location of a station on these islands and would increase the likelihood of the authorized facility causing interference, shall notify the Interference Office, Arecibo Observatory, HC3 Box 53995, Arecibo, Puerto Rico 00612, in writing or electronically, of the technical parameters of the proposal. Applicants may wish to consult interference guidelines, which will be provided by Cornell University. Applicants who choose to transmit information electronically should e-mail to: prcz@naic.edu.

* * * * *

PART 95—PERSONAL RADIO SERVICES

13. The authority citation for part 95 continues to read as follows:

Authority: Secs. 4, 303, 48 Stat. 1066, 1082, as amended; 47 U.S.C. 154, 303.

14. Section 95.192 is amended by revising paragraph (d) introductory text to read as follows:

§ 95.192 (FRS Rule 2) Authorized Locations.

* * * * *

(d) Anyone intending to operate an FRS unit on the islands of Puerto Rico, Desecheo, Mona, Vieques, and Culebra in a manner that could pose an interference threat to the Arecibo Observatory, shall notify the Interference Office, Arecibo Observatory, HC3 Box 53995, Arecibo, Puerto Rico 00612, in writing or electronically, of the location of the unit. Operators may wish to consult interference guidelines, which will be provided by Cornell University. Operators who choose to transmit information electronically should e-mail to: prcz@naic.edu.

* * * * *

15. Section 95.206 is amended by revising paragraph (c) introductory text to read as follows:

§ 95.206 (R/C Rule 6) Are there any special restrictions on the location of my R/C station?

* * * * *

(c) Anyone intending to operate an R/C station on the islands of Puerto Rico, Desecheo, Mona, Vieques, and Culebra in a manner that could pose an interference threat to the Arecibo Observatory shall notify the Interference Office, Arecibo Observatory, HC3 Box 53995, Arecibo, Puerto Rico 00612, in writing or electronically, of the location of the unit. Operators may wish to consult interference guidelines, which will be provided by Cornell University. Operators who choose to transmit information electronically should e-mail to: prcz@naic.edu.

* * * * *

16. Section 95.405 is amended by revising paragraph (d) introductory text to read as follows:

§ 95.405 (CB Rule 5) Where may I operate my CB station?

* * * * *

(d) Anyone intending to operate a CB station on the islands of Puerto Rico, Desecheo, Mona, Vieques, and Culebra in a manner that could pose an interference threat to the Arecibo Observatory shall notify the Interference Office, Arecibo Observatory, HC3 Box 53995, Arecibo, Puerto Rico 00612, in writing or electronically, of the location of the unit. Operators may wish to consult interference guidelines, which will be provided by Cornell University. Operators who choose to transmit information electronically should e-mail to: prcz@naic.edu.

* * * * *

17. Section 95.1003 is amended by revising paragraph (c) introductory text to read as follows:

§ 95.1003 Authorized locations.

* * * * *

(c) Anyone intending to operate an LPRS transmitter on the islands of Puerto Rico, Desecheo, Mona, Vieques, and Culebra in a manner that could pose an interference threat to the Arecibo Observatory shall notify the Interference Office, Arecibo Observatory, HC3 Box 53995, Arecibo, Puerto Rico 00612, in writing or electronically, of the location of the unit. Operators may wish to consult interference guidelines, which will be provided by Cornell University. Operators who choose to transmit information electronically should e-mail to: prcz@naic.edu.

* * * * *

18. Section 95.1303 is amended by revising paragraph (c) introductory text to read as follows:

§ 95.1303 Authorized locations.

* * * * *

(c) Anyone intending to operate a MURS unit on the islands of Puerto Rico, Desecheo, Mona, Vieques, and Culebra in a manner that could pose an interference threat to the Arecibo Observatory shall notify the Interference Office, Arecibo Observatory, HC3 Box 53995, Arecibo, Puerto Rico 00612, in writing or electronically, of the location of the unit. Operators may wish to consult interference guidelines, which will be provided by Cornell University. Operators who choose to transmit information electronically should e-mail to: prcz@naic.edu.

* * * * *

PART 97—AMATEUR RADIO SERVICE

19. The authority citation for part 97 continues to read as follows:

Authority: 48 Stat. 1066, 1082, as amended; 47 U.S.C. 154, 303. Interpret or apply 48 Stat. 1064-1068, 1081-1105, as amended; 47 U.S.C. 151-155, 301-609, unless otherwise noted.

20. Section 97.205 is amended by revising paragraph (h) introductory text to read as follows:

§ 97.205 Repeater station.

* * * * *

(h) The provisions of this paragraph do not apply to repeaters that transmit on the 1.2 cm or shorter wavelength bands. Before establishing a repeater within 16 km (10 miles) of the Arecibo Observatory or before changing the transmitting frequency, transmitter power, antenna height or directivity of an existing repeater, the station licensee must give written notification thereof to the Interference Office, Arecibo Observatory, HC3 Box 53995, Arecibo, Puerto Rico 00612, in writing or electronically, of the technical parameters of the proposal. Licensees who choose to transmit information electronically should e-mail to: prcz@naic.edu.

* * * * *

[FR Doc. 05-10658 Filed 5-31-05; 8:45 am]

BILLING CODE 6712-01-P